DEPARTMENT OF THE TREASURY

Internal Revenue Service

26 CFR Part 1

[REG-108920-24]

RIN 1545-BR26

Guidance on Clean Electricity Low-Income Communities Bonus Credit Amount Program; Correction

AGENCY: Internal Revenue Service (IRS), Treasury.

ACTION: Notice of proposed rulemaking; correction.

SUMMARY: This document contains corrections to REG-108920-24, which was published in the Federal Register on Tuesday, September 3, 2024. REG-108920-24 contained proposed regulations concerning the program to allocate clean electricity low-income communities bonus credit amounts established pursuant to the Inflation Reduction Act of 2022 for calendar years 2025 and succeeding years.

DATES: Written or electronic comments and requests for a public hearing must be received by October 3, 2024.

ADDRESSES: Commenters were strongly encouraged to submit public comments electronically.

FOR FURTHER INFORMATION CONTACT: Concerning the proposed rules, Office of Associate Chief Counsel (Passthroughs & Special Industries) at (202) 317-6853 (not a toll-free number); concerning submissions of comments or the public hearing, the Publications and Regulations Section at (202) 317-6901 (not a toll-free number) or by email at publichearings@irs.gov (preferred).

SUPPLEMENTARY INFORMATION:

Background

The notice of proposed rulemaking (REG-108920-24) that is the subject of this correction is under section 48E of the Internal Revenue Code.

Correction

Accordingly, FR Doc. 2024-19617 (REG-108920-24), appearing on page 71193 in the Federal Register on Tuesday, September 3, 2024, is corrected as follows:

1. On page 71195, in the third column, in the first full paragraph, by correcting the fourth line from the top of the paragraph to read, “most recently released by American Community Survey (ACS) low-income”.

2. On page 71196, in the second column, in the sixth bullet point from the top of the page, by correcting the first line of the bullet point to read, “Department of Agriculture (USDA) Section 515 Rural Rental”.

3. On page 71204, in the third column, in the fourth full paragraph, by correcting the fifth sentence from the top of the paragraph to read, “records are required for the IRS to validate”.

4. On page 71206, in the second column, in the third full paragraph, by correcting the twelve line from the top of the paragraph to read “The proposed regulations do not have substantial”.

Kalle L. Wardlow,
Federal Register Liaison, Publications & Regulations Section, Associate Chief Counsel, (Procedure and Administration).

[FR Doc. 2024-21639 Filed 9-20-24; 8:45 am]

BILLING CODE 4830-01-P